FEDERAL MARITIME COMMISSION

[DOCKET NO. 23-03]

CertiFit, Inc., Complainant v. Evergreen Shipping Agency (America) Corp., as Agent for Evergreen Line, Evergreen Group D/B/A Evergreen Line, Respondent; Notice of Filing of Complaint and Assignment

Notice is given that a complaint has been filed with the Federal Maritime Commission (Commission) by CertiFit Inc., hereinafter “Complainant,” against Evergreen Shipping Agency (America) Corp. (hereinafter “Respondent”), as Agent for Evergreen Line, Evergreen Group d/b/a Evergreen Line, and its constituent parts, including: Evergreen Marine Group (Taiwan) Ltd; Italia Maritime S.p.A.; Evergreen Marine (UK) Ltd.; Evergreen Marin (Hong Kong) Ltd.; Evergreen Marine (Singapore) Pte. Ltd.; and Evergreen Marine (Asia) Pte. Ltd. Complainant states that it is a corporation existing under the laws of Utah with a principal place of business in Utah. Complainant identifies Respondent as a vessel-operating ocean common carrier and corporation existing under the laws of New Jersey with a principal place of business in New Jersey.

Complainant alleges that Respondent violated 46 U.S.C. 41102(c), 41104(a)(2), 41104(a)(5), 41104(a)(9), and 41104(a)(10) regarding its practices regarding shipments of cargo, including systematically failing to meet its commitments to Complainant under Service Contracts, refusing tendered cargo, refusing to provide empty containers, failing to provide necessary information concerning booking issues, and a refusal to deal. An answer to the complaint is due to be filed with the Commission within twenty-five (25) days after the date of service. The full text of the complaint can be found in the Commission's Electronic Reading Room at https://www2.fmc.gov/readingroom/proceeding/23-03/. This proceeding has been assigned to Office of Administrative Law Judges. The initial decision of the presiding officer in this proceeding shall be issued by May 6, 2024, and the final decision of the Commission shall be issued by November 20, 2024.

Served: May 4, 2023.
William Cody,
Secretary.

[FR Doc. 2023-09858 Filed 5-8-23; 8:45 am]

BILLING CODE 6730-02-P